DEPARTMENT OF ENERGY

Federal Energy Regulatory Commission

[Docket No. IC14-16-000]

Commission Information Collection Activities (FERC-537, FERC-725F, FERC-725I); Consolidated Comment Request; Extension

AGENCY: Federal Energy Regulatory Commission, DOE.

ACTION: Notice of information collections and request for comments.

SUMMARY: In compliance with the requirements of the Paperwork Reduction Act of 1995, 44 USC 3506(c)(2)(A), the Federal Energy Regulatory Commission (Commission or FERC) is soliciting public comment on the requirements and burden ¹ of the information collections described below.

¹ The Commission defines burden as the total time, effort, or financial resources expended by persons to generate, maintain, retain, or disclose or provide information to or for a Federal agency. For further explanation of what is included in the information collection burden, reference 5 Code of Federal Regulations 1320.3.

DATES: Comments on the collections of information are due December 8, 2014.

ADDRESSES: You may submit comments (identified by Docket No. IC14-16-000) by either of the following methods:

• eFiling at Commission's Web site: http://www.ferc.gov/docs-filing/efiling.asp

• Mail/Hand Delivery/Courier: Federal Energy Regulatory Commission, Secretary of the Commission, 888 First Street NE., Washington, DC 20426.

Please reference the specific collection number and/or title in your comments.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION: Type of Request: Three-year extension of the information collection requirements for all collections described below with no changes to the current reporting requirements. Please note that each collection is distinct from the next.

Comments: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

FERC-537, Gas Pipeline Certificates: Construction, Acquisition and Abandonment

OMB Control No.: 1902-0060.

Abstract: The information collected under the requirements of FERC-537 is used by the Commission to implement the statutory provisions of the Natural Gas Policy Act of 1978 (NGPA) ² and the Natural Gas Act (NGA). ³ Under Section 7(c) of the NGA, natural gas pipeline companies must obtain Commission authorization to undertake the construction or extension of any facilities, or to acquire or operate any such facilities or extensions. A natural gas company must also obtain Commission approval under Section 7(b) of the NGA prior to abandoning any jurisdictional facility or service. Under the NGA and the NGPA, interstate and intrastate pipelines must also obtain authorization for certain transportation and storage services and arrangements, particularly a Part 284, Subpart G—Blanket Certificate.⁴

² 15 U.S.C. 3301-3432.

³ 15 U.S.C. 717-717w.

⁴ 18 CFR 284.8.

The information collected is necessary to certificate interstate pipelines engaged in the transportation and sale of natural gas, and the construction, acquisition, and operation of facilities to be used in those activities, to authorize the abandonment of facilities and services, and to authorize certain NGPA transactions. If a certificate is granted, the natural gas company can construct, acquire, or operate facilities, plus engage in interstate transportation or sale of natural gas. Conversely, approval of an abandonment application permits the pipeline to cease service and/or discontinue the operation of such facilities. Authorization under NGPA Section 311(a) allows the interstate or intrastate pipeline applicants to render certain transportation services.

The data required to be submitted consists of identification of the company and responsible officials, factors considered in the location of the facilities and the detailed impact on the project area for environmental considerations. Also to be submitted are the following:

• Flow diagrams showing proposed design capacity for engineering design verification and safety determination;

• Commercial and economic data presenting the basis for the proposed action; and

• Cost of the proposed facilities, plans for financing, and estimated revenues and expenses related to the proposed facility for accounting and financial evaluation.

The Commission implements these filing requirements in the Code of Federal Regulations (CFR) under 18 CFR Parts 157.5-.11; 157.13-.20; 157.53; 157.201-.209; 157.211; 157.214-.218; 284.8; 284.11; 284.126; 284.221; 284.224.

Type of Respondent: Natural Gas Pipelines.

Estimate of Annual Burden: The Commission estimates the annual public reporting burden for the information collection as:

FERC-537—Gas Pipeline Certificates: Construction, Acquisition, and Abandonment
Number of respondents | Annual number of responses per respondent | Total number of responses | Average burden hours & cost per response ⁵ | Total annual burden hours & total annual cost | Cost per respondent ($)
(1) | (2) | (1)*(2) = (3) | (4) | (3)*(4) = (5) | (5) ÷ (1)
389 | 1.2 | 467 | 133 $9,377 | 62,111 $4,379,059 | $11,257

A more granular breakdown of the average burden hour figure (i.e. 133 hours per response) follows:

⁵ The estimates for cost per response are derived using the following formula: Average Burden Hours per Response * $70.50 per Hour = Average Cost per Response. The cost per hour figure is the FERC average salary. Subject matter experts found that industry employment costs closely resemble FERC's regarding the FERC-537 information collection.

Regulation section 18 CFR . . . | Regulation topic | Number of respondents | Number of responses | Avg. hours per response
157.5-.11; & 157.13-.20 | Interstate certificate and abandonment applications | 149 | 82 | 500
157.53 | Exemptions | 149 | 0.5 | 100
157.201-.209; 157.211; 157.214-.218 | Blanket Certificates prior notice filings | 149 | 46 | 200
157.201-.209; 157.211; 157.214-.218 | Blanket Certificates—annual reports | 198 | 294 | 50
284.11 | NGPA Sec. 311 Construction—annual reports | 198 | 294 | 50
284.8 | Capacity Release—record keeping | 0 | N/A | 75
284.126(a)&(c) | Intrastate bypass, semi-annual transportation & storage—reports | 37 | 48 | 30
284.221 | Blanket Certificates—one time filing, inc. new tariff and rate design proposal | ⁶ 0 | N/A | 100
284.224 | Hinshaw Blanket Certificates | 5 | 5 | 75
157.5-.11; & 157.13-.20 | Non-facility certificate or abandonment applications | 0 | N/A | 75
TOTALS |  | ¹ 389 distinct entities. | 467 | ² 133 average, weighted.
¹ Distinct entities.
² Average weighted.

FERC-725F, Mandatory Reliability Standards for Nuclear Plant Interface Coordination

OMB Control No.: 1902-0249.

Abstract: The Commission requires the information collected by the FERC-725F to implement the statutory provisions of section 215 of the Federal Power Act (FPA) (16 U.S.C. 824o). On August 8, 2005, the Electricity Modernization Act of 2005, which is Title XII, Subtitle A, of the Energy Policy Act of 2005 (EPAct 2005), was enacted into law.⁷ EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.⁸

⁶ The number for these filings is accounted for in other regulatory categories in FERC-537.

⁷ Energy Policy Act of 2005, Public Law 109-58, Title XII, Subtitle A, 119 Stat. 594, 941 (2005), 16 U.S.C. 824o.

⁸ 16 U.S.C. 824o(e)(3).

On February 3, 2006, the Commission issued Order No. 672, implementing section 215 of the FPA.⁹ Pursuant to Order No. 672, the Commission certified one organization, North American Electric Reliability Corporation (NERC), as the ERO. The Reliability Standards developed by the ERO and approved by the Commission apply to users, owners and operators of the Bulk-Power System as set forth in each Reliability Standard.

⁹ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

On November 19, 2007, NERC filed its petition for Commission approval of the Nuclear Plant Interface Coordination Reliability Standard, designated NUC-001-1. In Order No. 716, issued October 16, 2008, the Commission approved the standard while also directing certain revisions.¹⁰ Revised Reliability Standard, NUC-001-2, was filed with the Commission by NERC in August 2009 and subsequently approved by the Commission January 21, 2010.¹¹

¹⁰ Mandatory Reliability Standard for Nuclear Plant Interface Coordination, Order No. 716, 125 FERC ¶ 61,065, at P 189 & n.90 (2008), order on reh'g, Order No. 716-A, 126 FERC ¶ 61,122 (2009).

¹¹ North American Electric Reliability Corporation, 130 FERC ¶ 61,051 (2010). When the revised Reliability Standard was approved the Commission did not go to OMB for approval. It is assumed that the changes made did not substantively affect the information collection and therefore a formal submission to OMB was not needed.

The purpose of Reliability Standard NUC-001-2 is to require “coordination between nuclear plant generator operators and transmission entities for the purpose of ensuring nuclear plant safe operation and shutdown.” ¹² The Nuclear Reliability Standard applies to nuclear plant generator operators (generally nuclear power plant owners and operators, including licensees) and “transmission entities,” defined in the Reliability Standard as including a nuclear plant's suppliers of off-site power and related transmission and distribution services. To account for the variations in nuclear plant design and grid interconnection characteristics, the Reliability Standard defines transmission entities as “all entities that are responsible for providing services related to Nuclear Plant Interface Requirements (NPIRs),” and lists eleven types of functional entities (heretofore described as “transmission entities”) that could provide services related to NPIRs.¹³

¹² See Reliability Standard NUC-001-2 at http://www.nerc.com/files/NUC-001-2.pdf.

¹³ The list of functional entities consists of transmission operators, transmission owners, transmission planners, transmission service providers, balancing authorities, reliability coordinators, planning authorities, distribution providers, load-serving entities, generator owners and generator operators.

FERC-725F information collection requirements include establishing and maintaining interface agreements, including record retention requirements. These agreements are not filed with FERC but with the appropriate entities as established by the Reliability Standard.

Type of Respondent: Nuclear operators, nuclear plants, transmission entities.

Estimate of Annual Burden: The Commission estimates the average annual burden for this information collection as:

FERC-725F | Number of respondents | Annual number of responses per respondent | Total number of responses | Average burden hours & cost per response ¹⁴ | Total annual burden hours & total annual cost | Cost per respondent ($)
| (1) | (2) | (1)*(2) = (3) | (4) | (3)*(4) = (5) | (5) ÷ (1)
New agreements (Reporting) | 10 nuclear operators + 20 transmission entities | 1 | 30 | 1,080 $79,736 | 32,400 $2,392,092 | $79,736
New Agreements (Record Keeping) | 10 nuclear operators + 20 transmission entities | 1 | 30 | 108 $3,133 | 3,240 $93,992 | 3,133
Modifications to agreements (Reporting) | 65 nuclear plants + 130 transmission entities ¹⁵ | 2 | 390 | 66.67 $4,922 | 26,000 $1,919,581 | 9,844
Modifications to Agreements (Record Keeping) | 65 nuclear plants + 130 transmission entities | 2 | 390 | 6.67 $193 | 2,600 $75,426 | 387
Total |  | ¹⁶ 420 |  | 64,240 $4,481,091 |  |

FERC-725I, Mandatory Reliability Standards for the Northeast Power Coordinating Council

OMB Control No.: 1902-0258.

Abstract: This information collection relates to two FERC approved Protection and Control (PRC) regional Reliability Standards: PRC-002-NPCC-01—Disturbance Monitoring, and PRC-006-NPCC-1—Automatic Underfrequency Load-Shedding. These Northeast Power Coordinating Council (NPCC) regional Reliability Standards require respondents to provide recording capability necessary to monitor the response of the Bulk-Power System to system disturbances, including scheduled and unscheduled outages; requires each reliability coordinator to establish requirements for its area's dynamic disturbance recording needs; establishes disturbance data reporting requirements; and requires planning coordinators to incrementally gather data, run studies, and analyze study results to design or update the UFLS programs that are required in the regional Reliability Standard in addition to the requirements of the NERC Reliability Standard PRC-006-1.¹⁷

¹⁴ The cost for reporting requirements is $73.83/hour and is based on a composite loaded (wage plus benefits) average wage for an electrical engineer, attorney, and administrative staff. The cost for record keeping is $29.01 and is based on the loaded wage for a file clerk. The wages are generated from Burueau of Labor Statistics data retrieved September, 2014 from http://www.bls.gov/oes/current/naics2_22.htm. The loaded wage is calculated using BLS data indicating, as of Sept 1, 2014, that wages make up 69.9% of total salary (http://www.bls.gov/news.release/ecec.nr0.htm).

¹⁵ This figure of 130 transmission entities is based on the assumption that each agreement will be between 1 nuclear plant and 2 transmission entities (65 times 2 = 130). However, there is some double counting in this figure because some transmission entities may be party to multiple agreements with multiple nuclear plants. The double counting does not affect the burden estimate and the correct number of unique respondents will be reported to OMB. The actual number of unique entities subject to this collection is 143.

¹⁶ The recordkeeping “responses” are considered to be part of (i.e. to be contained within the same quantity as) the Reporting responses leading to a total number of unique responses of 420 (390 + 30 = 420).

¹⁷ The burden estimates for Reliability Standard PRC-006-1 are included in Order No. 763 (Final Rule in RM11-20) and covered in FERC-725A (OMB Control No. 1902-0244). OMB approved those requirements on 7/9/2012 (ICR Reference No. 201204-1902-001).

Reliability Standard PRC-002-NPCC-01 introduced several new mandatory and enforceable requirements for the applicable entities. However, when FERC approved this standard NPCC had (and continues to have) criteria ¹⁸ and published guidance ¹⁹ addressing similar requirements that the Reliability Standard made mandatory. Thus, it is usual and customary for affected entities within NPCC to create, maintain and store some of the same or equivalent information identified in Reliability Standard PRC-002-NPCC-01. Therefore, many of the requirements contained in PRC-002-NPCC-01 do not impose new burdens on the affected entities.²⁰

¹⁸ Disturbance Monitoring Equipment Criteria (Aug. 2007), available at https://www.npcc.org/Standards/Criteria/A-15.pdf (Disturbance Monitoring Criteria).

¹⁹ Guide for Application of Disturbance Recording Equipment (Sept. 2006), available at https://www.npcc.org/Standards/Guides/B-26.pdf (Application Guide).

²⁰ 5 CFR 1320.3(b)(2) (2011).

Several requirements contained in regional Reliability Standard PRC-002-NPCC-01 were entirely new responsibilities for the applicable entities when the Commission approved the standard and each of these is listed in the estimated annual burden section below.

Information collection burden for Reliability Standard PRC-006-NPCC-01 is based on the time needed for planning coordinators and generator owners to incrementally gather data, run studies, and analyze study results to design or update the UFLS programs that are required in the regional Reliability Standard in addition to the requirements of the NERC Reliability Standard PRC-006-1.²¹ There is also burden on the generator owners to maintain data.

²¹ The burden estimates for Reliability Standard PRC-006-1 are included in Order No. 763 (Final Rule in RM11-20) and currently covered in FERC-725A (OMB Control No. 1902-0244). OMB approved those requirements on 7/9/2012 (ICR Reference No. 201204-1902-001).

Type of Respondent: Entities registered with the North American Electric Reliability Corporation (NERC) as Generator Owners, Transmission Owners, Reliability Coordinators and Planning Coordinators

Estimate of Annual Burden: The number of respondents is based on NERC's registry as of August 27, 2014. Entities registered for more than one applicable function type have been accounted for in the figures below. The Commission estimates the annual public reporting burden for the information collection as:

Reliability Standard PRC-002-NPCC-01
Information collection requirements | Number of respondents | Annual number of responses per respondent | Total number of responses | Average burden hours & cost per response ²² | Total annual burden hours & total annual cost | Cost per Respondent ($)
| (1) | (2) | (1)*(2) = (3) | (4) | (3)*(4) = (5) | (5) ÷ (1)
R13: GO ²³ and TO to have evidence it acquired and installed dynamic disturbance recorders and a mutually agreed upon implementation schedule with the RC (record retention) | 1 | 1 | 1 | 10 $290 | 10 $290 | $290
R14.5: GO and TO to have evidence of a maintenance and testing program for stand-alone disturbance monitoring equipment including monthly verification of active analog quantities | 166 | 12 | 1,992 | 5 $305 | 9,960 $607,560 | 3,660
R14.7: GO and TO to record efforts to return failed units to service if it takes longer than 90 days ²⁴ | 33 | 1 | 33 | 10 $610 | 330 $20,130 | 610
R14.7: GO and TO record retention | 33 | 1 | 33 | 10 $290 | 330 $9,570 | 290
R17: RC provide certain disturbance monitoring equipment data to the Regional Entity upon request | 5 | 1 | 5 | 5 $305 | 25 $1,525 | 305
R17: RC record retention | 5 | 1 | 5 | 10 $290 | 50 $1,450 | 290
Total |  | ²⁵ 2,031 |  | 10,705 $640,525 |  |

²² The estimates for cost per response are derived using the following formula: Average Burden Hours per Response * XX per Hour = Average Cost per Response. The hourly cost figure comes from the Bureau of Labor Statistics (http://www.bls.gov/oes/current/naics2_22.htm and http://www.bls.gov/news.release/ecec.nr0.htm). Record retention at a wage plus benefits cost of $29/hour and the remaining costs are based on the wage plus benefits for an electrical engineer at $61/hour.

²³ For purposes of these charts, generation owner is abbreviated to GO, transmission owner is abbreviated to TO, reliability coordinator is abbreviated to RC, and planning coordinator is abbreviated to PC.

²⁴ We estimate that an entity will experience a unit failure greater than 90 days once every five years. Therefore, 20 percent of NPCC's 166 generator owners and transmission owners will experience a unit failure of this duration each year.

²⁵ The recordkeeping “responses” for R14.7 and R17 are considered to be part of (i.e. to be contained within the same quantity as) the Reporting responses leading to a total number of unique responses of 420 (390 + 30 = 420).

Reliability Standard PRC-006-NPCC-01
Information collection requirements | Number of respondents | Annual number of responses per respondent | Total number of responses | Average burden hours & cost per response | Total annual burden hours & total annual cost | Cost per respondent ($)
| (1) | (2) | (1)*(2) = (3) | (4) | (3)*(4) = (5) | (5) ÷ (1)
PCs Design and document automatic UFLS program | 6 | 1 | 6 | 8 $488 | 48 $2,928 | $488
PCs update and maintain UFLS program database | 6 | 1 | 6 | 16 $976 | 96 $5,856 | 976
GOs provide documentation and data to the planning coordinator | 145 | 1 | 145 | 16 $976 | 2,320 $141,520 | 976
GOs: record retention | 145 | 1 | 145 | 4 $116 | 580 $16,820 | 116
Total |  |  | 302 |  | 3,044 $167,124 |

Dated: September 30, 2014.
Kimberly D. Bose,
Secretary.

[FR Doc. 2014-24057 Filed 10-8-14; 8:45 am]

BILLING CODE 6717-01-P